FEDERAL COMMUNICATIONS COMMISSION

Notice of Public Information Collections Being Reviewed by the Federal Communications Commission, Comments Requested

July 27, 2009.

SUMMARY: The Federal Communications Commission, as part of its continuing effort to reduce paperwork burdens, invites the general public and other Federal agencies to take this opportunity to comment on the following information collection, as required by the Paperwork Reduction Act of 1995 (PRA), Public Law No. 104-13. An agency may not conduct or sponsor a collection of information unless it displays a currently valid control number. Pursuant to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before September 28, 2009. If you anticipate that you will be submitting comments, but find it difficult to do so within the period of time allowed by this notice, you should advise the contact listed below as soon as possible.

ADDRESSES: Interested parties may submit all PRA comments by e-mail or U.S. post mail. To submit your comments by e-mail, send them to PRA@fcc.gov and/or Cathy.Williams@fcc.gov. To submit your comments by U.S. mail, mark them to the attention of: Cathy Williams, Federal Communications Commission, Room 1-C823, 445 12th Street, SW., Washington, DC 20554.

FOR FURTHER INFORMATION CONTACT: For additional information about the information collection, contact Cathy Williams at (202) 418-2918 or send an e-mail to PRA@fcc.gov and/or Cathy.Williams@fcc.gov.

SUPPLEMENTARY INFORMATION: OMB Control Number: 3060-1089.

Title: Telecommunications Relay Services and Speech-to-Speech Services for Individuals with Hearing and Speech Disabilities; E911 Requirements for IP-Enabled Service Providers, CG Docket No. 03-123 and WC Docket No. 05-196, FCC 08-151 and FCC 08-275.

Form Number: Not Applicable.

Type of Review: Revision of a currently approved collection.

Respondents: Business or other for-profit entities; Individuals or households; Not-for-profit institutions; State, local or tribal government.

Number of Respondents and Responses: 12 respondents; 5,608,692 responses.

Estimated Time per Response: 3 minutes (.05 hours) to 1 hour.

Frequency of Response: One-time, quarterly and on occasion reporting requirements; Recordkeeping requirement; Third party disclosure requirement.

Total Annual Burden: 206,061.

Total Annual Cost: $4,251,635.

Obligation To Respond: Required to obtain or retain benefits. The statutory authority for this information collection is contained in sections 1, 2, 4(i), (4)(j), 225, 251, and 303(r) of the Communications Act of 1934, as amended, 47 U.S.C. 151, 152, 154(i), 154(j), 225, 251, and 303(r).

Nature and Extent of Confidentiality: An assurance of confidentiality is not offered because the Commission has no direct involvement in the collection of personally identifiable information (PII) from individuals and/or households.

Privacy Impact Assessment: No impact(s).

Needs and Uses: On November 30, 2005, the Commission released Telecommunications Relay Services and Speech-to-Speech Services for Individuals with Hearing and Speech Disabilities; Access to Emergency Services, Notice of Proposed Rulemaking (VRS/IP Relay 911 NPRM), CG Docket No. 03-123, FCC 05-196, published at 71 FR 5221 (February 1, 2006), which addressed the issue of access to emergency services for Internet-based forms of Telecommunications Relay Services (TRS), namely Video Relay Service (VRS) and Internet Protocol (IP) Relay. The Commission sought to adopt means to ensure that such calls promptly reach the appropriate emergency service provider.

On May 8, 2006, the Commission released Telecommunications Relay Services and Speech-to-Speech Services for Individuals with Hearing and Speech Disabilities; Misuse of IP Relay Service and Video Relay Service, Further Notice of Proposed Rulemaking (IP Relay/VRS Misuse FNPRM), CG Docket No. 03-123, FCC 06-58, published at 71 FR 31131 (June 1, 2006), which sought further comment on whether IP Relay and VRS providers should be required to implement user registration systems and what information users should provide, as a means of curbing illegitimate IP Relay and VRS calls.

On May 9, 2006, the Commission released Telecommunications Relay Services and Speech-to-Speech Services for Individuals with Hearing and Speech Disabilities, Declaratory Ruling and Further Notice of Proposed Rulemaking (Interoperability Declaratory Ruling and FNPRM), CG Docket No. 03-123, FCC 06-57, published at 71 FR 30818 and 71 FR 30848 (May 31, 2006). In the Interoperability Declaratory Ruling and FNPRM, the Commission sought comment on the feasibility of establishing a single, open, and global database of proxy numbers for VRS users that would be available to all service providers, so that a hearing person can call a VRS user through any VRS provider, without having first to ascertain the VRS user's current IP address.

On June 24, 2008, the Commission released Telecommunications Relay Services and Speech-to-Speech Services for Individuals with Hearing and Speech Disabilities; E911 Requirements for IP-Enabled Service Providers, Report and Order and Further Notice of Proposed Rulemaking (First Numbering Order), CG Docket No. 03-123 and WC Docket No. 05-196, FCC 08-151, addressing the issues raised in these notices. The First Numbering Order establishes a reliable and consistent means by which others (including emergency personnel) can identify or reach VRS and IP Relay users by, among other things, integrating VRS and IP Relay users into the ten-digit, North American Numbering Plan (NANP) numbering system.

To complete a telephone call to an Internet-based TRS user, a provider must have some method of logically associating the telephone number dialed by the caller to the Internet-based TRS user's device. The method adopted by the Commission, known as the TRS Numbering Directory, is a central database that maps each user's telephone number to routing information needed to find that user's device on the Internet. The First Numbering Order requires VRS and IP Relay providers to collect and maintain the routing information from their registered users and to provision that information to the TRS Numbering Directory so that this mapping can occur.

In addition, to establish a reliable means for VRS and IP Relay providers to automatically know the physical location of their users, the First Numbering Order requires VRS and IP Relay providers to collect and maintain the Registered Location of their registered users. And to ensure that emergency personnel can retrieve a user's Registered Location (along with the provider's name and the identification number of the Communications Assistant for call back purposes), the First Numbering Order requires VRS and IP Relay providers to make that information available from or through the appropriate automatic location information (ALI) database.

To ensure that VRS and IP Relay users are aware of their providers' numbering and E911 service obligations and to inform those users of their providers' E911 capabilities, the First Numbering Order requires each VRS and IP Relay provider to post an advisory on its Web site, and in any promotional materials directed to consumers, addressing numbering and E911 services for VRS or IP Relay. Providers also must obtain and keep a record of affirmative acknowledgement from each of their registered users of having received and understood the user notification.

On December 19, 2008, the Commission released the Telecommunications Relay Services and Speech-to-Speech Services for Individuals with Hearing and Speech Disabilities; E911 Requirements for IP-Enabled Service Providers, Second Report and Order and Order on Reconsideration (Second Numbering Order), CG Docket No. 03-123 and WC Docket No. 05-196, FCC 08-275, further addressing the duties of VRS and IP Relay providers to supply numbering and E911 capabilities to their users, as established in the First Numbering Order.

The Second Numbering Order revises the “User Notification” information collection requirement adopted in the First Numbering Order. Specifically, VRS and IP Relay consumer advisories must explain that: (1) The consumer may obtain a telephone number from, and register with, his or her provider of choice; (2) the consumer may change default providers while retaining the same telephone number by porting that number to the new default provider; (3) the consumer may make calls through, and receive calls from, any provider; and (4) the provider cannot condition the ongoing use or possession of equipment, or the receipt of different or upgraded equipment, on the consumer continuing to use the provider as his or her default provider.

The Second Numbering Order also adds five new information collection requirements to those adopted in the First Numbering Order. First, once a VRS or IP Relay user with a “proxy” or “alias” number obtains a NANP telephone number, the VRS or IP Relay provider must provide a message notifying callers of the user's new NANP telephone number and advising callers that, after November 12, 2009, the user may only be reached by the NANP telephone number. (Although the permissive dialing period was scheduled to end on June 30, 2009, the Consumer and Governmental Affairs Bureau later extended this deadline until after November 12, 2009.) This notification requirement is intended to smooth the transition of VRS and IP Relay users to NANP telephone numbers by ensuring that a VRS or IP Relay user can be reached by a calling party who may not yet know the user's new number.

Second, VRS and IP Relay providers must verify whether a user who places a call through a provider is registered with another provider in order to distinguish a new user who has not yet registered from an existing user who is dialing around the default provider with which he or she is registered. A VRS or IP Relay provider may do this by requesting a user's ten-digit NANP number and querying the Numbering Directory using that number.

Third, VRS and IP Relay providers must institute procedures to verify the accuracy of registration information, including the consumer's name and mailing address, and include a self certification component requiring consumers to verify that they have a medically recognized hearing or speech disability necessitating their use of TRS. These measures will be used by VRS and IP Relay providers to ensure that their services are not used for fraudulent or other purposes not authorized by the statute or by the Commission's rules.

Fourth, any VRS or IP Relay provider wishing to pass through numbering-related costs to its users must obtain Commission approval to do so. This requirement will be used by the Consumer and Governmental Affairs Bureau, acting on delegated authority, to ensure that only customer-specific, actually incurred costs are passed on to VRS and IP Relay users.

Finally, each VRS provider that provisions equipment to a consumer must make available to the consumer's newly selected default provider certain information about that equipment that will be used by the new default provider to perform the functions required of a default provider, including enabling point-to-point (non-relay) communications between VRS users, when a user switches providers but wishes to use equipment supplied by another default provider.

Federal Communications Commission.
Marlene H. Dortch,
Secretary.

[FR Doc. E9-18260 Filed 7-29-09; 8:45 am]

BILLING CODE 6712-01-P